DEPARTMENT OF STATE

[Public Notice: 8846]

Shipping Coordinating Committee; Notice of Committee Meeting

The Shipping Coordinating Committee (SHC) will conduct an open meeting at 9:30 a.m. on Wednesday, October 1st, 2014, in Coast Guard Headquarters, Room 6i10-01-c, Washington, DC. The primary purpose of the meeting is to prepare for the sixty-seventh Session of the International Maritime Organization's (IMO) Marine Environment Protection Committee to be held at the IMO Headquarters, United Kingdom, October 13-17, 2014.

The agenda items to be considered include:

• Adoption of the agenda

• Harmful aquatic organisms in ballast water

• Recycling of ships

• Air pollution and energy efficiency

• Further technical and operational measures for enhancing energy efficiency of international shipping

• Reduction of GHG emissions from ships

• Consideration and adoption of amendments to mandatory instruments

• Review of nitrogen and phosphorous removal standards in the 2012 Guidelines on the implementation of effluent standards and performance tests for sewage treatment plants

• Mandatory Code for ships operating in polar waters

• Identification and protection of Special Areas and PSSAs

• Inadequacy of reception facilities

• Reports of sub-committees

• Work of other bodies

• Promotion of implementation and enforcement of MARPOL and related instruments

• Technical cooperation activities for the protection of the marine environment

• Work programme of the Committee and subsidiary bodies

• Application of the Committees' Guidelines

• Election of the Chairman and Vice-Chairman for 2015

• Any other business

• Consideration of the report of the Committee

Members of the public may attend this meeting up to the seating capacity of the room. Upon request, members of the public may also participate via teleconference, up to the capacity of the teleconference phone line. The access number for this teleconference line will be posted online at http://www.uscg.mil/imo/mepc/default.asp at least 2 working days in advance. Physical access to the meeting, or participation via the teleconference line, requires that all attendees respond to the meeting coordinator not later than September 17, 2014, 10 working days prior to the meeting. The meeting coordinator, Mr. John Morris, may be contacted by email at John.C.Morris@uscg.mil or by phone at 202-372-1433. Responses made after September 23, 2014, might result in the requester not being able to participate in the meeting. A request for reasonable accommodation should be made to Mr. Morris, at the same email address, prior to September 23. Requests made after that date might not be possible to fulfill.

Please note that due to security considerations, two valid, government issued photo identifications must be presented to gain entrance to the Coast Guard Headquarters building. The Coast Guard Headquarters building is accessible by public transportation or taxi. Additional information regarding this and other IMO SHC public meetings may be found at: www.uscg.mil/imo.

In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: August 12, 2014.
Marc Zlomek,
Executive Secretary, Shipping Coordinating Committee, Department of State

[FR Doc. 2014-20174 Filed 8-22-14; 8:45 am]

BILLING CODE 4710-09-P